DEPARTMENT OF TRANSPORTATION

Federal Aviation Administration

Notice of Availability of the Draft Environmental Impact Statement (Draft EIS) for the Development and Extension of Runway 9R/27L and other Associated Airport Projects at Fort Lauderdale-Hollywood International Airport (FLL) and Notice of Public Hearing Date, Time, and Location

AGENCY: The lead federal agency is the Federal Aviation Administration (FAA), Department of Transportation (DOT).

ACTION: Notice of availability, notice of public comment period, notice of public information meeting and public hearing.

SUMMARY: The FAA is issuing this Notice of Availability to advise the public that a Draft EIS will be available for public review beginning March 30, 2007. The document was prepared pursuant to a proposal presented to the FAA by the Broward County Board of County Commissioners, the owner and operator of FLL and identified in the Draft EIS as the Airport Sponsor, for environmental review.

The FAA prepared this Draft EIS to analyze and disclose potential environmental impacts related to possible Federal actions at FLL. Numerous Federal actions would be necessary if airfield development were to be implemented. Proposed improvements include Runway 9R/27L development and extension and other airfield projects (see below).

The Draft EIS presents the purpose and need for the proposed Federal action, analysis of reasonable alternatives, including the No Action alternative, discussion of impacts for each reasonable alternative, and supporting appendices. The FAA will consider all information contained in this Draft EIS and additional information that may be provided during the public comment period before issuing a Final EIS and Agency decision regarding the possible alternatives and Federal actions.

The Airport Sponsor proposes to develop and extend Runway 9R/27L to an overall length of 8,000 feet and width of 150 feet (the reconstructed runway would be equipped with an Engineered Materials Arresting System (EMAS) at both runway ends); elevate Runway 9R end and Runway 27L end to provide 34.74 feet of vertical clearance over the Florida East Coast (FEC) Railway; construct a new full-length parallel taxiway 75 feet wide on the north side of Runway 9R/27L with separation of 400 feet from 9R/27L; construct an outer dual parallel taxiway to be used as a temporary runway during the construction of permanent Runway 9R/27L; construct a connecting taxiway from the proposed full-length parallel taxiway to existing Taxiway E; construct a Category I Instrument Landing System (ILS) for landings on Runways 9R and 27L that includes a Medium Intensity Approach Light System with runway alignment indicator lights (MALSR), localizer, and glideslope. The Airport Sponsor also proposes to decommission Runway 13/31 and redevelop terminal gate facilities.

Connected actions associated with the Airport Sponsor's proposal include closure of Airport Perimeter Road located within the approach to Runway 9R; relocation of ASR-9; acquisition of all, or a portion, of the Wyndham Fort Lauderdale Airport Hotel to the extent the existing structure was within the Proposed Runway Protection Zone (RPZ) for extended Runway 9R/27L; partial displacement of the Jet Center facilities; and full displacement of the Gulfstream Airways aircraft maintenance facilities for potential use of a taxiway as a temporary runway during construction.

Public Comment and Information Workshop/Public Hearing: The public comment period on the Draft EIS will start March 30, 2007 and will end on May 14, 2007. A Public Information Workshop and Public Hearing will be held on May 1, 2007 at the Greater Fort Lauderdale/Broward County Convention Center, 1950 Eisenhower Boulevard, Fort Lauderdale, FL 33316; Telephone: (954) 765-5900. The purpose of the Public Hearing is to afford the public and other interested parties the opportunity to comment on the economic, social, and environmental effects of the location and location's consistency with the objectives of any planning that the community has carried out.

The Public Information Workshop will be held in Ballroom D from 4 p.m. to 8 p.m. The Public Hearing will be held in Ballroom A beginning at 6 p.m. and conclude when the last registered speaker submits comments for the record.

For those unable to attend the Public Hearing, the public will be able to submit written comments or register to give oral comments to a court reporter between 4 p.m. and 6 p.m. in the Public Information Workshop. Oral Comments will be limited to 3 minutes.

Comments can only be accepted with the full name and address of the individual commenting. Mail and fax comments are to be submitted to Ms. Virginia Lane of the FAA, at the address shown in FOR FURTHER INFORMATION CONTACT. E-mail comments should be sent to FLL-EIScomments@landrum-brown.com). All comments must be postmarked, faxed or e-mailed by no later than midnight, Monday, May 14, 2007. The Draft EIS may be reviewed for comment during regular business hours at the following locations:

1. Broward County Governmental Center, 115 S. Andrews Avenue, Fort Lauderdale, FL 33301 (Telephone: 954-357-7000).

2. Broward County Library—Main Branch, 100 S. Andrews Avenue, Fort Lauderdale, FL 33301 (Telephone: 954-354-7444).

3. Broward County Library—Fort Lauderdale Branch, 1300 E. Sunrise Boulevard, Fort Lauderdale, FL 33304 (Telephone: 954-765-4263).

4. Broward County Library—Hollywood Branch, 2600 Hollywood Boulevard, Hollywood, FL 33304 (Telephone: 954-926-2430).

5. Broward County Library—Dania Beach DeMaio Branch, 255 E. Dania Beach Boulevard, Dania Beach, FL 33004 (Telephone: 954-926-2420).

6. Broward County Library—Davie/Cooper City Branch, 4600 SW 82nd Avenue, Davie, FL 33328 (Telephone: 954-680-0050).

7. Broward County Library—Lauderhill Town Centre, 6399 W. Oakland Park Boulevard, Lauderhill, FL 33313 (Telephone: 954-497-1630).

8. Broward County Library—Stirling Road Branch, 3151 Stirling Road, Hollywood, FL 33021 (Telephone: 954-985-2689).

9. Broward County Library—Pembroke Pines/Walter C. Young Branch, 955 NW 129th Avenue, Pembroke Pines, FL 33025 (Telephone: 954-437-2635).

10. Broward County Library—West Regional Branch, 8601 W. Boulevard, Plantation, FL 33324 (Telephone: 954-831-3300).

11. Broward County Library—Sunrise Dan Pearl Branch, 10500 W. Oakland Park Boulevard, Sunrise, FL 33351 (Telephone: 954-749-2521).

12. Fort Lauderdale-Hollywood International Airport, Public Outreach Trailer, Broward County Aviation Department, 550 Northwest 10th Street, Dania Beach, FL 33315 (Telephone: 954-359-6977).

13. Broward County Administration Office, Broward County Governmental Center, 115 S. Andrews Avenue, Room 409, Fort Lauderdale, FL 33301 (Telephone: 954-357-7000).

14. Broward County Aviation Department, 320 Terminal Drive, Fort Lauderdale, FL 33315 (Telephone: 954-359-6118).

A CD version of the Draft EIS document will also be available at the following public locations. Broward County will be providing an electronic copy of the Draft EIS on the Broward County Web site at http://www.broward.org/airport/.

15. City of Lauderhill, Lauderhill City Hall, 2000 City Hall Drive, Lauderhill, FL 33313 (Telephone: 954-739-0100).

16. City of Pembroke Pines, Pembroke Pines City Hall, 10100 Pines Boulevard, Pembroke Pines, FL 33025 (Telephone: 954-431-4500).

17. City of Cooper City, Cooper City Hall, 9090 S.W. 50th Place, Cooper City, FL 33328 (Telephone: 954-434-4300).

18. City of Sunrise, 10770 W. Oakland Park Blvd., Sunrise FL 33351 (Telephone: 954-741-2580).

19. City of Fort Lauderdale, 100 N. Andrews Avenue, Fort Lauderdale, FL 33301 (Telephone: 954-761-5000).

20. City of Plantation, Plantation City Hall, 400 N.W. 73rd Avenue, Plantation, FL 33317 (Telephone: 954-797-2221).

21. City of Hollywood, Hollywood City Hall, 2600 Hollywood Boulevard, Hollywood, FL 33020 (Telephone: 954-921-3473).

22. City of Dania Beach, Dania Beach City Hall, 100 W. Dania Beach Boulevard, Dania Beach, FL 33004 (Telephone: 954-924-3600).

23. Town of Davie, Davie Town Hall, 6591 SW., 45th Street, Davie, FL 33314 (Telephone: 954-797-1000).

SUPPLEMENTARY INFORMATION: The FAA encourages all interested parties to provide comments concerning the scope and content of the Draft EIS. Comments should be as specific as possible. Comments should address the contents of the Draft EIS, such as the analysis of potential environmental impacts, the adequacy of the proposed action to meet the stated need, or the merits of the various alternatives. Reviewers should organize their participation to make it meaningful and effective in making the FAA aware of the viewer's interests and concerns. Reviewers should use quotations, page references, and other specific citations to the text of the Draft EIS and related documents. This commenting procedure is intended to ensure that substantive comments and concerns are made available to the FAA in a timely and effective manner, so that the FAA has an opportunity to address them.

FOR FURTHER INFORMATION CONTACT: Ms. Virginia Lane, FAA Orlando Airports District Office, 5950 Hazeltine National Drive, Orlando, Florida 32822-5024. Telephone: (407) 812-6331, Fax: (407) 812-6978.

Issued in Orlando, Florida, on March 21, 2007.
W. Dean Stringer,
Manager, FAA Orlando Airports District Office.

[FR Doc. 07-1523 Filed 3-29-07; 8:45 am]

BILLING CODE 4910-13-M